DEPARTMENT OF THE INTERIOR

Fish and Wildlife Service

[FWS-R5-R-2010-N284; BAC-4311-K9-S3]

Prime Hook National Wildlife Refuge, Sussex County, DE; Comprehensive Conservation Plan and Environmental Impact Statement

AGENCY: Fish and Wildlife Service, Interior.

ACTION: Notice of intent; request for comments.

SUMMARY: We, the U.S. Fish and Wildlife Service (Service), intend to prepare a comprehensive conservation plan (CCP) for Prime Hook National Wildlife Refuge (NWR) in Sussex County, Delaware. An environmental impact statement (EIS) evaluating effects of various CCP alternatives will also be prepared. We provide this notice in compliance with our CCP policy to advise other Federal and State agencies, Tribes, and the public of our intentions, and to obtain suggestions and information on the scope of issues to consider in the planning process. We are also requesting public comments. This notice also advises the public that we have reconsidered a 2005 notice, in which we announced our intention to develop an environmental assessment (EA) for the refuge. Comments already received in response to the previous notice will be considered during preparation of the subject CCP/EIS.

DATES: To ensure consideration, please send your written comments by June 23, 2011. We will announce opportunities for public input in local news media throughout the CCP process.

ADDRESSES: Send your comments or requests for more information by any of the following methods.

E-mail: northeastplanning@fws.gov. Include “Prime Hook CCP” in the subject line of the message.

Fax: Attention: Thomas Bonetti, Planning Team Leader, at 413-253-8468.

U.S. Mail: Thomas Bonetti, Planning Team Leader, U.S. Fish and Wildlife Service, Northeast Regional Office, 300 Westgate Center Drive, Hadley, MA 01035.

In-Person Drop-off: You may drop off comments during regular business hours at Prime Hook NWR, 11978 Turkle Pond Road, Milton, DE 19968.

FOR FURTHER INFORMATION CONTACT: To obtain more information on the refuge, contact Michael Stroeh, Project Leader, Prime Hook NWR, 11978 Turkle Pond Road, Milton, DE 19968; phone: 302-653-9345; fax: 302-684-8504.

SUPPLEMENTARY INFORMATION:

Introduction

With this notice, we continue our process for developing a CCP for Prime Hook NWR in Sussex County, DE. This notice complies with our CCP policy, and the National Environmental Policy Act of 1969, as amended (NEPA) (42 U.S.C. 4321 et seq.), to (1) Advise other Federal and State agencies, Tribes, and the public of our intention to conduct detailed planning on this refuge, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Tribal, State, and local governments; agencies; organizations; and the public. At this time, we encourage input in the form of issues, concerns, ideas, and suggestions for the future management of Prime Hook NWR. We previously published a notice of intent on October 17, 2005 (70 FR 60365) stating we intended to prepare a CCP and EA for Prime Hook NWR. We held three public meetings in November 2005 in Milton, Dover, and Lewes, DE. All meetings were announced in local newspapers. One hundred and ten members of the public attended the meetings and provided comments. All comments we received on the EA will go forward into the EIS planning process. Based on the extent of public comments already received, and subsequent developments since scoping, we have determined that an EIS would be more appropriate than an EA to ensure that a full and fair discussion of all significant environmental impacts occurs, and to inform decision-makers and the public of the reasonable alternatives that would avoid or minimize adverse impacts and enhance the quality of the human environment.

We will conduct the environmental review of this project and develop an EIS in accordance with the requirements of NEPA, NEPA regulations (40 CFR parts 1500-1508), other appropriate Federal laws and regulations, and our policies and procedures for compliance with those laws and regulations.

Prime Hook National Wildlife Refuge

In 1963, Prime Hook NWR was established under the authority of the Migratory Bird Conservation Act (16 U.S.C. 715-715r) for use as an inviolate sanctuary, or any other management purpose, expressly for migratory birds. Farms and residences were once present on portions of what is now the refuge. Prime Hook NWR was established primarily to preserve coastal wetlands as wintering and breeding habitat for migratory waterfowl. The 10,133 acres of the refuge stretch along the west shore of Delaware Bay, 22 miles southeast of Dover, Delaware. Eighty percent of the refuge's vegetation cover types are characterized by tidal and freshwater creek drainages that discharge into the Delaware Bay and associated coastal marshes. The remaining 20 percent is composed of upland habitats. The land uses near the refuge are intensive agricultural and developed residential.

Scoping: Preliminary Issues, Concerns, and Opportunities

We have identified preliminary issues, concerns, and opportunities that we will address in the CCP. We have briefly summarized some of these issues below. During public scoping, we may identify additional issues.

Climate Change and Sea-Level Rise

A growing body of evidence indicates that accelerating climate change, associated with increasing global temperatures, is affecting water, land, and wildlife resources. Along our coasts, rising sea levels have begun to affect fish and wildlife habitats, including those used by waterfowl, wading birds, and shorebirds on our national wildlife refuges. Successful conservation strategies will require an understanding of climate change and the ability to predict how those changes will affect fish and wildlife at multiple scales. Overwash is the flow of water and sediment over the crest of the beach that does not directly return to the water body where it originated. It is a natural manifestation of rising sea levels, but also critical to maintaining healthy emergent wetlands in barrier island systems of estuaries like the Delaware and Chesapeake Bays.

Mosquito Control

Balancing the needs of wildlife and people is becoming more difficult as residential developments encroach upon wild areas and more visitors participate in wildlife-dependent recreational opportunities on the refuge. Providing quality habitat at sufficient quantities for an increasing number of species and individuals is challenging to wildlife managers and biologists. Mosquitoes are a part of the natural environment and a food source for a variety of wildlife. More importantly, insecticides, in particular adulticides that are used to control mosquitoes, can have devastating impacts on insects, which are utilized by fish, amphibians, and migratory birds as important food sources. Prime Hook NWR has and will continue to work with the State's Mosquito Control Section while striving to protect the biological integrity, diversity, and environmental health of the refuge.

Cooperative Farming

Prime Hook NWR has an on-refuge cooperative farming program, which has a long history. However, the refuge has never tilled more than 870 acres in any year, and this farmed acreage has been reduced incrementally over the years. In 2006, the Delaware Audubon Society, Center for Food Safety, and Public Employees for Environmental Responsibility filed suit against the Service alleging the refuge's failure to comply with Federal laws and policies. The refuge ceased all farming operations in 2006. In 2009, the refuge was enjoined from farming and the planting of genetically modified organisms until the refuge completed compatibility determinations and environmental assessments dealing with the impacts.

Hunting

On the Delmarva Peninsula, hunting is a traditional outdoor pastime that is deeply rooted in American and Delaware heritage. Opportunities for public hunting are decreasing with increasing private land development. Refuge lands thus become increasingly important in the region as a place to engage in this activity. Hunting has and will continue to be an integral component of the public use program at the refuge. The U.S. Fish and Wildlife Service Manual (605 FW 2) states that hunting programs must provide quality experiences for the public, be compatible with the mission of the NWRS and the purposes of the refuge, and, to the extent practicable, be consistent with State fish and wildlife laws and regulations. In scoping for the CCP, we invite suggestions on how to improve the current hunting program.

Public Involvement

You may send comments anytime during the planning process by mail, e-mail, or fax (see ADDRESSES). There will be additional opportunities to provide public input once we have prepared a draft CCP. Comments already received under the previous notice will be considered during preparation of the subject CCP/EIS. The public's ideas and comments are an important part of the CCP process, and we invite public participation. The Service is looking for meaningful comments that will help determine the desired future conditions of the refuge and address the full range of refuge issues and opportunities.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: January 28, 2011.
Kyla J. Hastie,
Acting Regional Director, U.S. Fish and Wildlife Service.

[FR Doc. 2011-11266 Filed 5-6-11; 8:45 am]

BILLING CODE 4310-55-P